POSTAL SERVICE

39 CFR Part 111

Seamless Acceptance Program

AGENCY: Postal Service™.

ACTION: Final rule.

SUMMARY: The Postal Service will revise Mailing Standards of the United States Postal Service, Domestic Mail Manual (DMM®) to add the mail preparation requirements governing participation in the Seamless Acceptance Program.

DATES: Effective Date: March 1, 2017.

FOR FURTHER INFORMATION CONTACT: Heather Dyer at (207) 482-7217 or Jacqueline Erwin at (202) 268-2158.

SUPPLEMENTARY INFORMATION: The Postal Service published a notice of proposed rulemaking on January 13, 2017, (82 FR 4231-4232) to add the mail preparation requirements governing participation in the Seamless Acceptance Program, which included a 30-day comment period. The Postal Service received one customer comment.

Comments on Proposed Changes and USPS Response

The Postal Service received 1 formal response on the proposed general language for the Seamless Acceptance Program proposal. The responder was seeking additional information on a related technical guide to the programming intricacies for qualifying for the Seamless option. Since the general language for the DMM does not include nor will it incorporate technical guidance, the comments are not relevant to this Final Rule. The commentary was shared with the appropriate postal personnel for response.

Summary of Changes To Be Implemented

Seamless Acceptance is an option for entering commercial mailings. It leverages full-service mailing technology by using scans from USPS® mail processing equipment and hand held devices to automate verification and payment for commercial First-Class Mail cards, letters, and flats, Periodicals, USPS Marketing Mail letters and flats, and Bound Printed Matter flats. Mailers may participate in the Seamless Acceptance Program by contacting the PostalOne! Helpdesk at 1-800-522-9085. To participate in the Seamless Acceptance Program, mailers must meet the standards in DMM 705.22.0. Additional information, including information regarding verification and associated assessments under the Seamless Acceptance Program, is provided in Publication 6850, Publication for Streamlined Mail Acceptance for Letters and Flats, at https://postalpro.usps.com/node/581.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

700 Special Standards

* * * * *

705 Advanced Preparation and Special Postage Payment Systems

* * * * *

[Add new section 22.0, to read as follows:]

22.0 Seamless Acceptance Program

22.1 Description

Seamless Acceptance uses Intelligent Mail barcodes, electronic documentation (eDoc), and scans from USPS mail processing equipment and hand held devices, to automate verification of and payment for First-Class Mail cards, letters, and flats, Periodicals, USPS Marketing Mail letters and flats, and Bound Printed Matter flats. Additional information, including information regarding verification and associated assessments on the Seamless Acceptance Program is available in Publication 6850, Publication for Streamlined Mail Acceptance for Letters and Flats, available at https://postalpro.usps.com/node/581.

22.2 Approval

Mailers may seek authorization to participate in the Seamless Acceptance Program by contacting the PostalOne! Helpdesk at 1-800-522-9085.

22.3 Basic Standards

First-Class Mail, Periodicals, and USPS Marketing Mail letters and flats and BPM barcoded flats are potentially eligible for Seamless Acceptance. All mailpieces, including basic and nonautomation, must be prepared as outlined in 23.0; mailers must meet the following standards:

a. Meet all the content and price eligibility standards for the price claimed.

b. Prepare 90% Full-Service eligible volume.

c. Participate in the Seamless Parallel Program.

d. Participate in eInduction under 20.0 for DMU-verified origin entry or destination entry-drop shipments.

22.3.1 Intelligent Mail Barcode Exception

Under special circumstances where mailers are unable to use an Intelligent Mail Barcode on every piece an exception may be granted by Business Mailer Support (BMS); see 608.8 for contact information.

* * * * *

We will publish an appropriate amendment to 39 CFR part 111 to reflect these changes.

Stanley F. Mires,
Attorney, Federal Compliance.

[FR Doc. 2017-03911 Filed 2-28-17; 8:45 am]

BILLING CODE 7710-12-P